DEPARTMENT OF AGRICULTURE

Natural Resources Conservation Service

[Docket No. NRCS-2023-0005]

Proposed Revisions to the National Handbook of Conservation Practices for the Natural Resources Conservation Service

AGENCY: Natural Resources Conservation Service, U.S. Department of Agriculture.

ACTION: Notice of availability, request for comments.

SUMMARY: The Natural Resources Conservation Service (NRCS) is giving notice that we intend to issue a series of revised conservation practice standards in the National Handbook of Conservation Practices (NHCP). NRCS is also giving the public an opportunity to provide comments on specified conservation practice standards in the NHCP.

DATES: We will consider comments that we receive by May 30, 2023.

ADDRESSES: We invite you to submit comments in response to this notice. You may submit your comments through one of the following methods below:

• Federal eRulemaking Portal: Go to http://www.regulations.gov and search for Docket ID NRCS-2023-0005. Follow the online instructions for submitting comments; or

• Mail or Hand Delivery: Mr. Clarence Prestwich, National Agricultural Engineer, Conservation Engineering Division, NRCS, USDA, 1400 Independence Avenue, South Building, Room 4636, Washington, DC 20250. In your comment, please specify the Docket ID NRCS-2023-0005.

All comments received will be made publicly available on http://www.regulations.gov.

The copies of the proposed revised standards are available through http://www.regulations.gov by accessing Docket No. NRCS-2023-0005. Alternatively, the proposed revised standards can be downloaded or printed from https://www.nrcs.usda.gov/getting-assistance/conservation-practices.

FOR FURTHER INFORMATION CONTACT: Mr. Clarence Prestwich; telephone: (202) 720-2972, or email: clarence.prestwich@usda.gov. Individuals who require alternative means for communication should contact the U.S. Department of Agriculture (USDA) Target Center at (202) 720-2600 (voice).

SUPPLEMENTARY INFORMATION:

Background

NRCS plans to revise the conservation practice standards in the NHCP. This notice provides an overview of the planned changes and gives the public an opportunity to offer comments on the specific conservation practice standards and NRCS's proposed changes.

NRCS State Conservationists who choose to adopt these practices in their States will incorporate these practices into the respective electronic Field Office Technical Guide. These practices may be used in conservation systems that treat highly erodible land (HEL) or on land determined to be wetland. Section 343 of the Federal Agriculture Improvement and Reform Act of 1996 (Pub. L. 104-127) requires NRCS to make available for public review and comment all proposed revisions to conservation practice standards used to carry out HEL and wetland provisions of the law.

Revisions to the National Handbook of Conservation Practices

The amount of the proposed changes varies considerably for each of the conservation practice standards addressed in this notice. To fully understand the proposed changes, individuals are encouraged to compare these changes with each standard's current version, which can be found at: https://www.nrcs.usda.gov/resources/guides-and-instructions/conservation-practice-standards.

NRCS is requesting comments on the following conservation practice standards:

• Anaerobic Digester (Code 366);

• Drainage Water Management (Code 554);

• Irrigation and Drainage Tailwater Recovery (Code 447);

• Pond Sealing or Lining, Geomembrane or Geosynthetic Clay Liner (Code 521);

• Roofs and Covers (Code 367); and

• Surface Drain, Main or Lateral (Code 608).

The following are highlights of some of the proposed changes to each standard:

Anaerobic Digester (Code 366): Reorganized requirements and clarified wording and formatting to increase readability of the standard. Aligned criteria with other Conservation Practice Standards and planning criteria to maintain consistency. Strengthened requirements to account for effects of nutrients and hazardous gases when implementing anaerobic digesters. Incorporated a limited allowance for emergency venting of biogas when the operation of a flare would lead to an exceedance of local air pollution regulations.

Drainage Water Management (Code 554): Clarified wording and formatting to increase readability of the standard. Added text to general criteria section that the project is required to comply with Federal, State, Tribal, and local laws, and regulations. Also clarified within general criteria section the allowance of manual and automation technology. Added text to the additional criteria to “Reduce Nutrient, Pathogen, and Pesticide Loading” section.

Irrigation and Drainage Tailwater Recovery (Code 447): Clarified wording and formatting to increase readability of the standard. Added text to general criteria section that the project is required to comply with Federal, state, tribal, and local laws, and regulations. The water quality practice purpose was clarified to include downstream drinking water source improvement.

Pond Sealing or Lining, Geomembrane or Geosynthetic Clay Liner (Code 521): Revised the materials table; the gas venting, water drainage, and leak detection criteria; and the slope requirements. Also, added new considerations on safety, leak detection, and liner protection.

Roofs and Covers (Code 367): Clarified wording and formatting to increase readability of the standard. The purpose was updated to be consistent with the resource concern list. The allowable flexible cover material thickness was updated based on industry standard change.

Surface Drain, Main or Lateral (Code 608): Added statement that the project is required to comply with all Federal, State, Tribal and local laws, rules, and regulations. Removed statement on wetland determinations to make the standard more consistent with other drainage standards. Added other minor changes to improve clarity and readability.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible agency or USDA's TARGET Center at (202) 720-2600 (voice and text telephone ( TTY)) or dial 711 for Telecommunicaions Relay Service (both voice and text telephone users can initiate this call from any phone). Additionally, program information may be made available in languages other than English.

To file a program discrimination complaint, complete the USDA Program Discrimination Complaint Form, AD-3027, found online at https://www.usda.gov/oascr/how-to-file-a-program-discrimination-complaint and at any USDA office, or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email to program.intake@usda.gov.

USDA is an equal opportunity provider, employer, and lender.

Louis Aspey,
Associate Chief, Natural Resources Conservation Service.

[FR Doc. 2023-08842 Filed 4-26-23; 8:45 am]

BILLING CODE 3410-16-P